ENVIRONMENTAL PROTECTION AGENCY

[EPA-HQ-OW-2006-0136; FRL-8200-8]

Agency Information Collection Activities; Submission to OMB for Review and Approval; Comment Request; Information Collection Request for the NPDES Regulation and Effluent Limitation Guidelines and Standards for Concentrated Animal Feeding Operations, EPA ICR No. 1989.04, OMB Control No. 2040-0250

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on July 31, 2006. Under OMB regulations, the Agency may continue to conduct or sponsor the collection of information while this submission is pending at OMB. This ICR describes the nature of the information collection and its estimated burden and cost.

DATES: Additional comments may be submitted on or before August 21, 2006.

ADDRESSES: Submit your comments, referencing docket ID number EPA-HQ-OW-2006-0136, to (1) EPA online using www.regulations.gov (our preferred method), by email to ow-docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Nina Bonnelycke, Environmental Protection Agency, 1200 Pennsylvania Ave., NW., Washington, DC 20460; telephone number: 202.564.0764; fax number: 202.564.6384; e-mail address: bonnelycke.nina@epa.gov.

SUPPLEMENTARY INFORMATION: EPA has submitted the following ICR to OMB for review and approval according to the procedures prescribed in 5 CFR 1320.12. On March 7, 2006 (71 FR 11407-11411), EPA sought comments on this ICR pursuant to 5 CFR 1320.8(d). EPA received one set of comments on the draft ICR. EPA's response to those comments is reflected in the ICR supporting statement. Any additional comments on this ICR should be submitted to EPA and OMB within 30 days of this notice.

EPA has established a public docket for this ICR under Docket ID No. EPA-HQ-OW-2006-0136, which is available for online viewing at www.regulations.gov, or in person viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426.

Use EPA's electronic docket and comment system at www.regulations.gov, to submit or view public comments, access the index listing of the contents of the docket, and to access those comments in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Information Collection Request for the NPDES Regulation and Effluent Limitation Guidelines and Standards for Concentrated Animal Feeding Operations.

ICR Numbers: EPA ICR No. 1989.04, OMB Control No. 2040-0250.

ICR Status: This ICR is scheduled to expire on July 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR calculates the burden and costs associated with the NPDES and ELG regulations for Concentrated Animal Feeding Operations (CAFOs). These regulations regulate land application of manure, litter and wastewater generated at CAFO facilities. The rule requires all facilities defined as a CAFO to apply for a NPDES permit.

Burden Statement: The annual public reporting and recordkeeping burden for this collection of information is estimated to average less than 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are owners and operators of Concentrated Animal Feeding Operations (CAFOs).

Estimated Number of Respondents: 24,080

Frequency of Response: On occasion.

Estimated Total Annual Hour Burden: 3,500,000 hours.

Estimated Total Annual Cost: $78,660,000 includes $440,000 for capital investment and $8,680,000 for O&M costs.

Changes in the Estimates: The burden estimate has increased due to growth in the industry and trends towards consolidation into larger facilities. As a result calculations were revised to accommodate this.

Dated: July 12, 2006.
Sara Hisel McCoy,
Acting Director, Collection Strategies Division.

[FR Doc. E6-11528 Filed 7-19-06; 8:45 am]

BILLING CODE 6560-50-P